FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011527-011.

Title: East Coast Americas Service.

Parties: Hanjin Shipping Co., Ltd.; Kawasaki Kisen Kaisha, Ltd.; and Mitsui O.S.K. Lines, Ltd.

Filing Party: Howard A. Levy, Esq.; 80 Wall Street; Suite 1117; New York, NY 10005-3602.

Synopsis: The amendment reflects the withdrawal of Zim Integrated Shipping Services, Ltd. from the agreement and removes Puerto Cabello, Venezuela, as a required port of call.

Agreement No.: 011602-008.

Title: Grand Alliance Agreement II.

Parties: Hapag-Lloyd Container Linie GmbH/CP Ships (UK) Limited/CP Ships USA LLC; Nippon Yusen Kaisha; and Orient Overseas Container Line, Inc./Orient Overseas Container Line Limited/Orient Overseas Container Line (Europe) Limited.

Filing Party: Wayne R. Rohde, Esq.; Sher & Blackwell; 1850 M Street, NW.; Suite 900; Washington, DC 20036.

Synopsis: The amendment increases the number and size of the vessels the parties are authorized to deploy under the agreement.

Agreement No.: 011705-006.

Title: Grand Alliance-CP Ships Atlantic Agreement.

Parties: Hapag-Lloyd Container Linie GmbH; Nippon Yusen Kaisha; Orient Overseas Container Line Limited/Orient Overseas Container Line, Inc./Orient Overseas Container Line (Europe) Limited; and CP Ships USA, LLC.

Filing Party: Wayne R. Rohde, Esq.; Sher & Blackwell LLP; 1850 M Street, NW., Suite 900; Washington, DC 20036.

Synopsis: The amendment removes P&O Nedlloyd Limited and P&O Nedlloyd BV as parties to the agreement.

Agreement No.: 011830-005.

Title: Indamex/APL Agreement.

Parties: American President Lines, Ltd./APL Co. PTE Ltd.; CMA CGM, S.A.; and CP Ships (UK) Limited.

Filing Party: Wayne R. Rohde, Esq.; Sher & Blackwell, LLP; 1850 M Street, NW.; Suite 900; Washington, DC 20036.

Synopsis: The amendment adds Hapag-Lloyd Container Linie GmbH as a party; revises the authority section in accordance with the parties' new understanding; revises the duration and termination provisions; adds new articles; and renames and republishes the agreement.

Agreement No.: 011955.

Title: CMA CGM/CSCL/Hatsu Marine Cross Space Charter, Sailing and Cooperative Working Agreement—North Europe/USEC and U.S. Gulf and Mexico Loop.

Parties: CMA CGM S.A.; China Shipping Container Lines Co., Ltd./China Shipping Container Lines (Hong Kong) Co., Ltd.; and Hatsu Marine Limited.

Filing Party: Paul M. Keane, Esq.; Cichanowicz, Callan, Keane, Vengrow & Textor, LLP; 61 Broadway; Suite 3000; New York, NY 10006-2802.

Synopsis: The agreement authorizes the parties to share vessel space in the trade between U.S. Atlantic and Gulf Coast ports and ports in North Europe (Baltic Coast of Germany to Atlantic Coast of France) and on the Atlantic Coast of Mexico.

Agreement No.: 011956.

Title: IDX Vessel Sharing Agreement.

Parties: Emirates Shipping Line FZE; MacAndrews & Company Limited; Shipping Corporation of India Ltd.; and Zim Integrated Shipping Services, Ltd.

Filing Party: Wayne R. Rohde, Esq.; Sher & Blackwell LLP; 1850 M Street, NW.; Suite 900; Washington, DC 20036.

Synopsis: The agreement authorizes the parties to contribute vessels to and utilize space on a service between the U.S. Atlantic Coast and Italy, Spain, and the Indian Subcontinent.

By Order of the Federal Maritime Commission.
Dated: April 28, 2006.
Karen V. Gregory,
Assistant Secretary.

[FR Doc. E6-6683 Filed 5-2-06; 8:45 am]

BILLING CODE 6730-01-P